DEPARTMENT OF HOMELAND SECURITY

Coast Guard

33 CFR Part 100

[Docket No. USCG-2007-0111]

RIN 1625-AA08

Final Rule: Special Local Regulations Concerning Fireworks Displays in Norwich and Middletown, CT

AGENCY: Coast Guard, DHS.

ACTION: Final rule.

SUMMARY: By this final rule, the Coast Guard is amending the coordinates given for two previously established special local regulations. The listed coordinates for the Taste of Italy Fireworks in Norwich, CT; and for the Middletown Fireworks on the Connecticut River in Middletown Harbor, Middletown, CT are being amended to properly reflect the geographic location where the events have been held in the past and will be held in the future.

DATES: This rule is effective April 10, 2008.

ADDRESSES: Documents indicated in this preamble as being available in the docket are part of docket USCG-2007-0111 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Waterways Management Division, Coast Guard Sector Long Island Sound, 120 Woodward Ave., New Haven, CT 06512, between 9 a.m. and 3 p.m., Monday through Friday, except Federal holidays.

FOR FURTHER INFORMATION CONTACT: If you have questions on this rule, call LT Doug Miller at (203) 468-4596 or write him at the Waterways Management Division, U.S. Coast Guard Sector Long Island Sound, 120 Woodward Ave., New Haven, CT 06512-3628. If you have questions on viewing or submitting material to the docket, call Renee V. Wright, Program Manager, Docket Operations, telephone 202-366-9826.

SUPPLEMENTARY INFORMATION:

Regulatory Information

We did not publish a notice of proposed rulemaking (NPRM) for this regulation. Under 5 U.S.C. 553(b)(B), the Coast Guard finds that good cause exists for not publishing an NPRM. The Coast Guard has determined that a notice and comment period is unnecessary as the change consists only of a correction to reflect the true location of the events. A notice of proposed rulemaking (64 FR 18587) was published on April 15, 1999 prior to the creation of these special local regulations which clearly noted the geographic location of these events. Additionally, these two special local regulations have been in effect for each of the past eight years and the Coast Guard has not received any public comments regarding the provisions of these regulations. Therefore, it is unnecessary to publish an NPRM.

Background and Purpose

Taste of Italy Fireworks

The Taste of Italy Fireworks display takes place annually on a night during the weekend following Labor Day from 8 p.m. to 10 p.m. A permanent special local regulation around the fireworks launch location was created in 33 CFR 100.114 on June 28, 1999. The final rule establishing the regulation was preceded by a Notice of Proposed Rulemaking (64 FR 18587) published on April 15, 1999. The NPRM listed the location of the fireworks as Norwich Harbor but did not give geographic coordinates. No comments or requests for public hearings were received. The special local regulation was published as a final rule in 64 FR 34544 on June 28, 1999, and geographic coordinates were included; however, the geographic coordinates published in the regulation were incorrect. Historically, this event has occurred at the approximate position 41°31′20.9″ N, 072°04′45.9″ W in Norwich Harbor and the Coast Guard is amending 33 CFR 100.114(a)(9.5) to reflect the location where it has been held in the past and where it will continue to be held in the future. The currently published position of 41°31′20″ N, 073°04′83″ W is being changed because the longitude position of 073°04′83″ W is incorrect. The longitude position where the event is held is at 072°, not the longitude position of 073° currently listed in the regulation. Also, the coordinate position 83″ does not exist as a proper geographic coordinate and thus is being amended in this final rule. Publishing the special local regulation's correct location is necessary to protect the life and property of the maritime public from the hazards posed by the fireworks display. Having a properly established special local regulation will protect the maritime public by prohibiting entry into or movement within this portion of Norwich Harbor from approximately one hour prior to, during and one hour after the stated event.

Middletown Fireworks

The Middletown Fireworks display takes place annually on July 4th from 8 p.m. to 10 p.m. A permanent special local regulation around the fireworks launch location was created in 33 CFR 100.114 on June 28, 1999. The final rule establishing the regulation was preceded by a Notice of Proposed Rulemaking (64 FR 18587) published on April 15, 1999. The NPRM listed the location of the fireworks as on the Connecticut River at Middletown Harbor but did not give geographic coordinates. No comments or requests for public hearings were received. The revision of the special local regulation was published as a final rule in 64 FR 34544 on June 28, 1999, and geographic coordinates were included at that time; however, the geographic coordinates published in the regulation were incorrect. Historically, this event has occurred at the approximate position 41°33′47.5″ N, 072°38′39.6″ W in Middletown Harbor and therefore the Coast Guard is amending 33 CFR 100.114(a)(7.37) to properly reflect the location where it has been held in the past and where it will continue to be held in the future. The currently published position of 41°33′79″ N, 073°38′83″ W is being changed because these coordinates are inaccurate and the location does not exist as the coordinates are not properly formatted for plotting purposes. The longitude position where the event is held is at 072°, not the longitude position of 073° currently listed in the regulation. Also, the coordinate positions 79′ and 83″ do not exist as proper geographic coordinates and thus are being amended in this final rule. Accordingly, the Coast Guard is amending section 100.114(a)(7.37) to state the correct approximate position of the display to be 41°33′47.5″ N, 072°38′39.6″ W. Publishing the special local regulation's correct location is necessary to protect the life and property of the maritime public from the hazards posed by the fireworks display. Having a properly established special local regulation will protect the maritime public by prohibiting entry into or movement within this portion of the Connecticut River at Middletown Harbor from approximately one hour prior to, during and one hour after the stated event.

Discussion of Rule

This amendment to 33 CFR 100.114 (a)(9.5) will correct the coordinates currently listed in this regulation for the Taste of Italy Fireworks display. The special local regulation established on the navigable waters of Norwich Harbor will have the approximate position 41°31′20.9″ N, 072°04′45.9″ W. The zone created by this special local regulation will be outlined by temporary marker buoys installed by the event organizers.

This action is intended to prohibit vessel traffic in a navigable portion of Norwich Harbor to provide for the protection of life and property of the maritime public. The special local regulation will continue to be enforced from 8 p.m. until 10 p.m. on a night during the weekend following Labor Day as specified by the event organizers. Specific dates for future events will be published in the Federal Register. Marine traffic may transit safely outside of the zone created by the special local regulation during the event thereby allowing navigation of the rest of Norwich Harbor except for the portion delineated by this rule.

The amendment to CFR 100.114(a)(7.37) will correct the approximate position of the Middletown Fireworks display. This change is needed to accurately convey the geographic coordinates of the fireworks event and the special local regulation so that mariners can plan their voyages accordingly thus enhancing the safety of participants, spectators, and transiting vessels.

This action is intended to prohibit vessel traffic in a navigable portion of the Connecticut River at Middletown Harbor to provide for the protection of life and property of the maritime public. The special local regulation will continue to be enforced from 8 p.m. until 10 p.m. annually on the 4th of July. Marine traffic may transit safely outside of the zone created by the special local regulation during the event thereby allowing navigation of the rest of Middletown Harbor except for the portion delineated by this rule.

The Captain of the Port anticipates minimal negative impact on vessel traffic from either of these special local regulations due to the limited area covered by the regulations and the short enforcement periods. In addition, public notification will be made via the First Coast Guard District Local Notice to Mariners and marine safety broadcasts.

Regulatory Evaluation

This rule is not a “significant regulatory action” under section 3(f) of Executive Order 12866 and does not require an assessment of potential costs and benefits under section 6(a)(3) of that Order. The Office of Management and Budget has not reviewed it under that Order. We expect the economic impact of this rule to be so minimal that a full Regulatory Evaluation is unnecessary.

These regulations may have some impact on the public, but the potential impact will be minimized for the following reasons: Vessels will only be excluded from the areas of the special local regulations for two hours and vessels will be able to operate in other areas of Norwich Harbor, Norwich, CT and Middletown Harbor, Middletown, CT during the enforcement periods.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: The owners or operators of vessels intending to transit or anchor in those portions of Norwich Harbor covered by the special local regulations and the owners or operators of vessels intending to transit the portion of the Connecticut River at Middletown Harbor covered by the special local regulations. For reasons outlined in the Regulatory Evaluation section above, this rule will not have a significant impact on a substantial number of small entities.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we offer to assist small entities in understanding this rule so that they can better evaluate its effects on them and participate in the rulemaking process.

Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if the rule has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(h), of the Instruction, from further environmental documentation as the rule modifies a special local regulation.

Under figure 2-1, paragraph (34)(h), of the Instruction, an “Environmental Analysis Check List” and a “Categorical Exclusion Determination” are not required for this rule.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233.

2. In § 100.114 (a), in the Fireworks Display Table, revise the entries for Connecticut: 7.37 and Connecticut: 9.5 as follows:

§ 100.114 Fireworks Displays within the First Coast Guard District

(a) * * *

Fireworks Display Table
* * * * * * *
Connecticut: 7.37 | July 4th | Name: Middletown Fireworks. Sponsor: City of Middletown. Time: 8 p.m. to 10 p.m. Location: Connecticut River, Middletown Harbor, Middletown, CT. 1°33′47.5″ N, 072°38′39.6″ W (NAD 1983).
* * * * * * *
Connecticut: 9.5 | A night during the weekend following Labor Day | Name: Taste of Italy Fireworks. Sponsor: Italian Heritage CommitteeTime: 8 p.m. to 10 p.m. Location: Norwich Harbor, off Norwich Marina, Norwich, CT. 41°31′20.9″ N, 072°04′45.9″ W (NAD 1983).
* * * * * * *

* * * * *

Dated: February 28, 2008.
T.S. Sullivan,
Rear Admiral, U.S. Coast Guard, Commander, First Coast Guard District.

[FR Doc. E8-4830 Filed 3-10-08; 8:45 am]

BILLING CODE 4910-15-P